DEPARTMENT OF AGRICULTURE

Forest Service

Madison Ranger District, Beaverhead-Deerlodge National Forest; Montana; South Gravelly Allotment Management Plan

AGENCY: Forest Service, USDA.

ACTION: Notice of intent to prepare an environmental impact statement.

SUMMARY: The nature of the South Gravelly Allotment Management Plan project proposes updating of four domestic livestock grazing management plans located on the southern end of the Gravelly Mountains, Beaverhead and Madison Counties, Montana.

DATES: Comments concerning the scope of the analysis must be received by March 7, 2016. The draft environmental impact statement is expected June of 2016 and the final environmental impact statement is expected January of 2017.

ADDRESSES: Send written comments to Dale Olson, District Ranger, Madison Ranger District, 5 Forest Service Road, Ennis, MT 59729. Comments may also be sent via email to comments-northern-beaverhead-deerlodge@fs.fed.us or via facsimile to 406-682-4233. For all forms of comment, make sure to include your name, physical address, phone number, and a subject title of South Gravelly AMP.

FOR FURTHER INFORMATION CONTACT: Dale Olson, District Ranger, Madison Ranger District, 5 Forest Service Road, Ennis, MT 59729. Phone: 406-682-4253.

Individuals who use telecommunication devices for the deaf (TDD) may call the Federal Information Relay Service (FIRS) at 1-800-877-8339 between 8 a.m. and 8 p.m., Eastern Time, Monday through Friday.

SUPPLEMENTARY INFORMATION:

Purpose and Need for Action

This action is being undertaken to review grazing practices and infrastructure on four domestic livestock grazing allotments (Eureka Basin, Pole Creek, Southwest Corner, Robb Creek) to ensure compliance with the applicable Beaverhead-Deerlodge Land and Resource Management Plan (Forest Plan) direction. This action is needed because there is new direction in the Forest Plan for livestock grazing, site specific suitability, and site specific Allowable Use Levels (AUL's) need to be validated. Additionally this action is needed to meet the Rescissions Act schedule for updating allotment plans.

Proposed Action

The authorizing official proposes to: Maintain current authorized livestock type and numbers, season of use and infrastructure on the allotments. Cattle grazing is authorized between July 1 and October 15 for a total of 9363 AUMs. Domestic livestock grazing would continue following current allowable use levels. Specifically, for upland forage no more than 55 percent use; for riparian areas no more than 30 percent streambank disturbance or maintain no less than four inches of greenline stubble height measured by stream reach. Reaching any one allowable use parameter requires movement of livestock from the area, pasture or the allotment. There would be no changes or additions in grazing management or infrastructure. Monitoring of compliance with AULs and long term vegetation monitoring would continue. Allotment management plans for the four allotments would be updated to incorporate the AULs and management prescriptions.

Possible Alternatives

No Grazing Alternative. Under this alternative domestic livestock grazing permits on the four allotments would be discontinued with a minimum of two years notice (36 CFR 222.4(a)(1)) to permittees. No new term grazing permits for domestic livestock grazing would be issued. All internal fences and water developments would be removed.

Responsible Official

The Madison District Ranger will be the responsible official.

Nature of Decision To Be Made

The decision to be made is whether to implement the proposed action, another alternative, or a combination of the alternatives.

Scoping Process

This notice of intent initiates the scoping process, which guides the development of the environmental impact statement. A scoping letter and maps will be mailed to interested publics, Tribes, and federal, state, and local governments.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action.

Dated: January 29, 2016.
Dale Olson,
Madison District Ranger.

[FR Doc. 2016-02107 Filed 2-3-16; 8:45 am]

BILLING CODE 3411-15-P